DEPARTMENT OF TRANSPORTATION

National Highway Traffic Safety Administration

[Docket No. NHTSA-2016-0071; Notice 1]

Cooper Tire & Rubber Company, Receipt of Petition for Decision of Inconsequential Noncompliance

AGENCY: National Highway Traffic Safety Administration (NHTSA), Department of Transportation (DOT).

ACTION: Receipt of petition.

SUMMARY: Cooper Tire & Rubber Company (Cooper), has determined that certain MULTI-MILE Grand Tour LS passenger vehicle tires do not fully comply with paragraph S5.5.1(b) of Federal Motor Vehicle Safety Standard (FMVSS) No. 139, New Pneumatic Tires Radial Tires for Light Vehicles. Cooper filed a report dated May 24, 2016, pursuant to 49 CFR part 573, Defect and Noncompliance Responsibility and Reports. Cooper then petitioned NHTSA under 49 CFR part 556 for a decision that the subject noncompliance is inconsequential as it relates to motor vehicle safety.

DATES: The closing date for comments on the petition is September 2, 2016.

ADDRESSES: Interested persons are invited to submit written data, views, and arguments on this petition. Comments must refer to the docket and notice number cited in the title of this notice and be submitted by any of the following methods:

• Mail: Send comments by mail addressed to: U.S. Department of Transportation, Docket Operations, M-30, West Building Ground Floor, Room W12-140, 1200 New Jersey Avenue SE., Washington, DC 20590.

• Hand Deliver: Deliver comments by hand to U.S. Department of Transportation, Docket Operations, M-30, West Building Ground Floor, Room W12-140, 1200 New Jersey Avenue SE., Washington, DC 20590. The Docket Section is open on weekdays from 10 a.m. to 5 p.m. except Federal Holidays.

• Electronically: Submit comments electronically by logging onto the Federal Docket Management System (FDMS) Web site at http://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to http://www.regulations.gov, including any personal information provided.

The petition, supporting materials, and all comments received before the close of business on the closing date indicated above will be filed in the docket and will be considered. All comments and supporting materials received after the closing date will also be filed and will be considered to the extent possible.

When the petition is granted or denied, notice of the decision will also be published in the Federal Register pursuant to the authority indicated at the end of this notice.

All documents submitted to the docket may be viewed by anyone at the address and times given above. The documents may also be viewed on the Internet at http://www.regulations.gov by following the online instructions for accessing the dockets. The docket ID number for this petition is shown in the heading of this notice.

DOT's complete Privacy Act Statement is available for review a Federal Register notice published on April 11, 2000, (65 FR 19477-78).

SUPPLEMENTARY INFORMATION: I. Overview: Pursuant to 49 U.S.C. 30118(d) and 30120(h) and their implementing regulations at 49 CFR part 556, Cooper submitted a petition for an exemption from the notification and remedy requirements of 49 U.S.C. Chapter 301 on the basis that this noncompliance is inconsequential as it relates to motor vehicle safety.

This notice of receipt of Cooper's petition is published under 49 U.S.C. 30118 and 30120 and does not represent any agency decision or other exercise of judgment concerning the merits of the petition.

II. Tires Involved: Affected are approximately 37 Cooper Tire MULTI-MILE Grand Tour LS Size 205/70R15 Tubeless Radial Tires manufactured between March 24, 2016 and March 29, 2016.

III. Noncompliance: Cooper explains that the noncompliance is that the outboard sidewalls of the subject tires are labeled with an incorrect manufacturer's identification mark and therefore do not fully meet all applicable requirements of paragraph S5.5.1(b) of FMVSS No. 139. Specifically, the tires are labeled with the manufacturer's identification mark “Y9,” assigned to a manufacturing facility in P.T. Gadjah Tunggual, Kabupaten Tangerang, Jawa Barat, Indonesia, instead of “U9,” assigned to Cooper's manufacturing facility in Tupelo, Mississippi, where the tires were actually produced.

IV. Rule Text: Paragraph S5.5.1 of FMVSS No. 139 requires in pertinent part:

S5.5.1 Tire Identification Number.

. . .

(b) Tires manufactured on or after September 1, 2009. Each tire must be labeled with the tire identification number required by 49 CFR part 574 on the intended outboard sidewall of the tire. Except for retreaded tires, either the tire identification number or a partial tire identification number, containing all characters in the tire identification number, except for the date code and, at the discretion of the manufacturer, any optional code, must be labeled on the other sidewall of the tire. Except for retreaded tires, if a tire does not have an intended outboard sidewall, the tire must be labeled with the tire identification number required by 49 CFR part 574 on one sidewall and with either the tire identification number or a partial tire identification number, containing all characters in the tire identification number except for the date code and, at the discretion of the manufacturer, any optional code, on the other side wall.

V. Summary of Cooper's Petition: Cooper states its belief that the subject noncompliance is inconsequential to motor vehicle safety on account of the fact that while the subject tires contain an incorrect manufacturer's identification mark on the outboard sidewall, the full and correct tire code (including the correct manufacturer's identification mark) is available on the intended inboard sidewall.

Cooper also indicated that it has taken the following steps to ensure proper registration of the subject tires:

(a) Cooper has informed all internal personnel responsible for manual processing of tire registration cards about the incorrect manufacturer identification issue so that cards containing the “Y9” designation will be accepted and properly processed when all other information accurately identifies the subject tires. Additionally, consistent with its usual practices, whenever a tire registration card is submitted with inaccurate or incomplete information, Cooper sends a mailing to the consumer seeking additional information by providing a prepaid response card.

(b) Cooper has also modified its database to accept “Y9” when other information (brand, serial weeks affected etc.) is accurate.

(c) Cooper has contacted Computerized Information and Management Services, Inc. (CIMS), a third-party vendor that collects and provides tire registration cards to Cooper, so that tire registration cards will not be rejected solely due to improper plant code information.

Cooper also noted that while the subject tires are mislabeled on the outboard side, they meet all other performance requirements of the applicable standard. The company observed that plant code information has no bearing on the performance or operation of a tire and does not create a safety concern to either the operator of the vehicle on which the tires are mounter of the safety of personnel in the tire repair, retread and recycle industry. Cooper also stated that on April 22, 2016 the incorrect mold that caused the stamping error was removed from production and replaced with a corrected plug, thereby eliminating the problem in future production.

Please refer to Cooper's petition for its complete reasoning and any associated illustrations. The petition and all supporting documents are available by logging onto the Federal Docket Management System (FDMS) Web site at: http://www.regulations.gov/ and following the online search instructions to locate the docket number listed in the title of this notice.

In summation, Cooper believes that the described noncompliance of the subject tires is inconsequential as it relates to motor vehicle safety, and that its petition, to exempt Cooper from providing notification of the noncompliance, as required by 49 U.S.C. 30118, and remedying the noncompliance, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject tires that Cooper no longer controlled at the time it determined that the noncompliance existed. However, any decision on this petition does not relieve equipment distributors and dealers of the prohibitions on the sale, offer for sale, or introduction or delivery for introduction into interstate commerce of the noncompliant tires under their control after Cooper notified them that the subject noncompliance existed.

Authority: 49 U.S.C. 30118, 30120: delegations of authority at 49 CFR 1.95 and 501.8,

Jeffrey M. Giuseppe,
Director, Office of Vehicle Safety Compliance.

[FR Doc. 2016-18307 Filed 8-2-16; 8:45 am]

BILLING CODE 4910-59-P